DEPARTMENT OF COMMERCE

Foreign-Trade Zones Board

[B-69-2020]

Foreign-Trade Zone (FTZ) 46—Cincinnati, Ohio; Notification of Proposed Production Activity; MANE, Inc. (Flavor Preparations and Seasonings), Cincinnati and Lebanon, Ohio

MANE, Inc. (MANE) submitted a notification of proposed production activity to the FTZ Board for its facilities in Cincinnati and Lebanon, Ohio. The notification conforming to the requirements of the regulations of the FTZ Board (15 CFR 400.22) was received on December 8, 2020.

The MANE facilities are located within Subzone 46H. The facilities are used for the production of flavors and seasonings in capsule, liquid, or dry form. Pursuant to 15 CFR 400.14(b), FTZ activity would be limited to the specific foreign-status materials and components and specific finished products described in the submitted notification (as described below) and subsequently authorized by the FTZ Board.

Production under FTZ procedures could exempt MANE from customs duty payments on the foreign-status components used in export production. On its domestic sales, for the foreign-status materials/components noted below, MANE would be able to choose the duty rates during customs entry procedures that apply to seasonings and flavor preparations (for food, drink, and other products) (duty free to 7.5%; 8.4¢/Kg + 1.9%; 17¢/Kg + 1.9%; 30.5¢/Kg + 6.4%). MANE would be able to avoid duty on foreign-status components which become scrap/waste. Customs duties also could possibly be deferred or reduced on foreign-status production equipment.

The components and materials sourced from abroad include: Coffee (not roasted; extract, essence or concentrate); vanilla, ground or crushed; turmeric; lac, gums or resins other than gum arabic; vegetable saps and extracts; sunflower or safflower oil (not crude); vegetable fats and oils and fractions thereof; beeswax and other insect waxes; fruit or vegetable juice (single source); sauces and preparations; silicon dioxide; unsaturated acyclic hydrocarbons and derivatives; cyclanes, cyclenes, and cycloterpenes other than cyclohexane; other cyclic hydrocarbons and derivatives; butan-1-ol (n-butyl alcohol); octanol and isomers thereof; acyclic terpene alcohols; other unsaturated monohydric alcohols; sorbitol; menthol; other cyclanic, cyclenic or cycloterpenic alcohols; monophenols; cyclanic, cyclenic or cycloterpenic ethers and derivatives; ether alcohols and derivatives; ether-phenols, ether-alcohol-phenols and derivatives; acetals and derivatives; acyclic aldehydes; vanillin; aldehyde alcohols, aldehyde ethers, and aldehyde phenols; acyclic ketones; cyclohexanone and methylcyclohexanones; ionones and methylionones; cyclanic, cyclenic or cycloterpenic ketones; ketone-phenols and ketones with other oxygen function; esters of formic acid; esters of acetic acid; propionic acid and derivatives; butanoic acids, pentanoic acids and derivatives; saturated acyclic monocarboxylic acids and derivatives; oleic, linoleic or linolenic acids and derivatives; unsaturated acyclic monocarboxylic acids and their derivatives; benzoic acid and derivatives; aromatic monocarboxylic acids and their derivatives; acyclic polycarboxylic acids and their derivatives; lactic acid and derivatives; amino-acids and derivatives; thiocarbamates and dithiocarbamates; organo-sulfur compounds; compounds containing an unfused furan ring; lactones and derivatives; heterocyclic compounds (oxygen) and derivatives; compounds containing an unfused pyridine ring; lactams; heterocyclic compounds (nitrogen) and derivatives; compounds containing an unfused thiazole ring; vitamin E and derivatives; glycosides and derivatives; coloring extract from vegetable or animal origin; acid dyes and preparations thereof; essential oils derived from orange, lemon, other citrus fruit, peppermint, other mint sources, or other botanical sources; resinoids; oleoresins; flavor preparations for food or drink; preparations of odoriferous substances; gelatin; peptones, other protein substances and derivatives; dextrins and other modified starch; other terpenic oils; pyroligneous acid; and, natural polymers (duty rate ranges from duty free to 7.7%; 0.2/liter to 0.64/liter; 0.7¢/Kg to 8.8¢/Kg; 1.2¢/Kg + 1.5%; 1.7¢/Kg + 3.4%; 2.8¢/Kg + 3.8%; 8.4¢/Kg + 1.9%; 17¢/Kg + 1.9%). The request indicates that certain materials/components are subject to duties under Section 301 of the Trade Act of 1974 (Section 301), depending on the country of origin. The applicable Section 301 decisions require subject merchandise to be admitted to FTZs in privileged foreign status (19 CFR 146.41).

Public comment is invited from interested parties. Submissions shall be addressed to the Board's Executive Secretary and sent to: ftz@trade.gov. The closing period for their receipt is January 26, 2021.

A copy of the notification will be available for public inspection in the “Reading Room” section of the Board's website, which is accessible via www.trade.gov/ftz.

For further information, contact Juanita Chen at juanita.chen@trade.gov or 202-482-1378.

Dated: December 14, 2020.
Andrew McGilvray,
Executive Secretary.

[FR Doc. 2020-27790 Filed 12-16-20; 8:45 am]

BILLING CODE 3510-DS-P